Proclamation 9197 of October 17, 2014

National Forest Products Week, 2014

By the President of the United States of America

A Proclamation

Our Nation's forests are an essential element of our urban spaces and rural landscape. Covering more than 750 million acres across America, they create opportunities for recreation and habitats for wildlife, and their products play an integral role in our Nation's economy and our daily lives. Paper and wood products allow us to communicate, teach, and learn. They provide us shelter and energy, and they package and deliver our food, medicine, and manufactured goods. And whether it is a paper containing the Gettysburg Address or a child's crayon masterpiece, these products capture life's memorable moments across generations. During National Forest Products Week, we celebrate the many uses of our natural bounty, and we renew our commitment to protect our forests and ensure these resources endure.

Forest products are recyclable and renewable, and in a changing climate, responsible management of our Nation's forests is even more important. Our forests purify the air we breathe and provide clean water to our communities. By absorbing and storing carbon dioxide, forests and forest products help reduce the greenhouse gases in our atmosphere, removing roughly 16 percent of our carbon emissions. In the face of increased threats to our forests—including diseases and insect infestations that spread more quickly, droughts that last longer, and wildfires that burn more frequently and more intensely—we are taking action to preserve these vital pieces of our environment and economy. As part of my Administration's Climate Action Plan, we are increasing the resilience of our country's forests and preserving their key role in mitigating climate change.

My Administration is committed to safeguarding these green spaces across our country for the use and enjoyment of our children and grandchildren. Through our America's Great Outdoors Initiative, we are empowering communities to do their part to protect their forested land, from urban parks to working forests. When cities and towns have the support they need to conserve their own resources, neighborhoods thrive and local economies grow.

For centuries, our forests have shaped the character of our Nation and contributed to its expansion, and we have an obligation to ensure the next generation has access to the same drivers of progress. This week, we resolve to do our part to protect our forests and secure a cleaner, healthier future for posterity.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 19 through October 25, 2014, as National Forest Products Week. I call on the people of the United States to join me in recognizing the dedicated individuals who are responsible for the stewardship of our forests and for the preservation, management, and use of these precious natural resources for the benefit of the American people.

IN WITNESS WHEREOF, I have hereunto set my hand this seventeenth day of October, in the year of our Lord two thousand fourteen, and of the Independence of the United States of America the two hundred and thirty-ninth.

[FR Doc. 2014-25295

Filed 10-22-14; 8:45 am]

Billing code 3295-F5